DEPARTMENT OF THE INTERIOR

Bureau of Land Management

[LLNVE0000 L51100000.GN0000 LVEMF1000570; 12-08807; MO# 4500033252; TAS: 14X5017]

Notice of Availability of the Draft Environmental Impact Statement for the Hollister Underground Mine Project, Elko County, NV

AGENCY: Bureau of Land Management, Interior.

ACTION: Notice of availability.

SUMMARY: In accordance with the National Environmental Policy Act of 1969, as amended (NEPA) and the Federal Land Policy and Management Act of 1976, as amended (FLPMA), the Bureau of Land Management (BLM) has prepared a Draft Environmental Impact Statement (EIS) for the Hollister Underground Mine Project and by this notice is announcing the opening of the public comment period.

DATES: To ensure that comments will be considered, the BLM must receive written comments on the Hollister Underground Mine Project Draft EIS within 45 days following the date the Environmental Protection Agency publishes its Notice of Availability in the Federal Register. The BLM will announce future meetings and any other public involvement activities at least 15 days in advance through public notices, news media releases, and/or mailings.

ADDRESSES: You may submit comments related to the Hollister Underground Mine Project by any of the following methods:

• Email: BLM_NV_ELDOHollisterEISTeam@blm.gov

• Fax: 775-753-0255

• Mail: Bureau of Land Management, Hollister Underground Mine Project, Attention: Janice Stadelman, Project Manager, 3900 Idaho Street, Elko NV 89801

Copies of the Hollister Underground Mine Project Draft EIS are available in the BLM Elko District Office at the above address and online at: http://www.blm.gov/nv/st/en/fo/elko_field_office.html.

FOR FURTHER INFORMATION CONTACT: Janice Stadelman, Project Manager; telephone 775-753-0346; address 3900 Idaho Street, Elko, NV 89801; email: BLM_NV_ELDOHollisterEISTeam@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: Rodeo Creek Gold, Inc. proposed an amendment to its plan of operations for the Hollister Underground Mine Project. The proposed amendment would transition its existing underground exploration operations into an underground gold and silver mining operation. Most of the necessary infrastructure to support a mining operation was authorized and built in conjunction with the underground exploration activities. The proposed project would be located 47 miles northwest of Elko in Elko County, Nevada. The proposed project is estimated to provide approximately 200 jobs and to operate for 20 years.

The current exploration project created approximately 105 acres of surface disturbance, of which 95 acres occur on public land and 10 acres occur on private land. About 75 percent of the existing facilities are located on previously disturbed ground within an existing open-pit mine. The proposed transition from an exploration project to a mining operation would disturb approximately 117 acres; an additional 106 acres of public land and an additional 11 acres of private land. If approved, the project total would be approximately 222 acres of surface disturbance.

The proposed project consists of constructing a new production shaft, improving existing roads, building an electrical power transmission line to the mine site, upgrading ancillary facilities, and continuing both surface and underground exploration. The proposed project would augment the existing mine water management facilities that currently include water treatment facilities and rapid infiltration basins by adding underground dewatering wells and obtaining a National Pollutant Discharge Elimination System permit to authorize discharge of groundwater to Little Antelope Creek. The Hollister Project would haul the mined ore using highway-legal trucks to existing off-site milling facilities via existing roads that would be improved as needed; no on-site processing facilities are proposed.

The Notice of Intent to prepare an EIS was published in the Federal Register on April 19, 2010. Scoping meetings and mailings were conducted to solicit public input to identify issues to be analyzed. The BLM contacted tribal governments with interest in this project to learn their issues and concerns and to conduct government-to-government consultation. Cooperating agencies include the Nevada Division of Wildlife and the Elko County Board of Commissioners.

During the public scoping period, the BLM received a total of 46 written comment submittals containing approximately 288 individual items. Key issues identified by individuals, groups, and governmental entities include: Potential impacts to cultural resources and the traditional cultural properties; access; noise; discharge to surface water, hydrology, and seeps and springs resulting from the groundwater drawdown; special status species, including snails and sage-grouse; potentially acid-generating waste-rock material; air quality; and support for the project. The scoping comments were used to guide the development of the alternatives and analysis, and address issues and concerns raised in regards to the proposed project. The Draft EIS addresses the direct, indirect, and cumulative environmental impacts of the proposed action, which is approval of the project as proposed by Rodeo Creek Gold, and alternatives.

Four alternatives, in addition to the proposed action, are analyzed in the Draft EIS. These alternatives include the No Action Alternative, Mud Springs Road Transmission Line Alternative, Mud Springs Waste Rock Storage Facility Alternative, and the Backfill Alternative. The project would continue as it is currently permitted under the No Action Alternative. The Mud Springs Road Transmission Line Alternative describes an alternative north and south route for the proposed electric transmission line. The Mud Springs Waste Rock Storage Facility Alternative describes an alternate location for a new waste rock storage facility. The Backfill Alternative describes an alternative means of closure for the proposed shafts, which is to completely backfill the shaft with rock and dirt material.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10.

Michael Herder,
District Manager, Elko District Office.

[FR Doc. 2012-13229 Filed 5-31-12; 8:45 am]

BILLING CODE 4310-HC-P